DEPARTMENT OF EDUCATION

Applications for New Awards; Magnet Schools Assistance Program; Correction

[Catalog of Federal Domestic Assistance (CFDA) Number: 84.165A.]

AGENCY: Office of Innovation and Improvement, Department of Education.

ACTION: Notice; correction.

SUMMARY: On December 13, 2016, we published in the Federal Register a notice inviting applications for new awards under the Magnet Schools Assistance Program. This document corrects the total number of points possible for the competitive preference priorities and the total amount of points possible for the competitive preference priorities and selection criteria. All other requirements and conditions stated in the notice inviting applications remain the same.

DATES: Effective December 28, 2016.

SUPPLEMENTARY INFORMATION:

Correction

In FR Doc. No. 2016-29907, in the Federal Register of December 13, 2016 (81 FR 89911), we make the following corrections:

(a) On page 89913, in the left column under the heading Competitive Preference Priorities, we remove “six” and “10,” and add in their place “seven” and “11,” respectively.

The revisions read as follows:

Competitive Preference Priorities: For FY 2017, these priorities are competitive preference priorities. Under 34 CFR 280.30(f), we will award up to seven additional points to an application, depending on how well the applicant addresses Competitive Preference Priorities 1, 2, and 3. Under 34 CFR 75.105(c)(2)(i) we will award up to an additional four points to an application, depending on how well the application addresses Competitive Preference Priority 4. Together, depending on how well the application meets these priorities, an application may be awarded up to a total of 11 additional points. Applicants may apply under any, all, or none of the competitive preference priorities. The maximum possible points for each competitive preference priority are indicated in parentheses following the name of the priority. These points are in addition to any points the application earns under the selection criteria in this notice.

(b) On page 89918, in the right column under the heading V. Application Review Information, we remove “110” and add in its place “111”.

The revision reads as follows:

Points awarded under these selection criteria are in addition to any points an applicant earns under the competitive preference priorities in this notice. The maximum score that an application may receive under the competitive preference priorities and the selection criteria is 111 points.

Program Authority: 20 U.S.C. 7231- 7231j.

For Further Information Contact: Jennifer Todd, U.S. Department of Education, 400 Maryland Avenue SW., Room 4W201, Washington, DC 20202-5970. Telephone: (202) 453-7200 or by email: msap.team@ed.gov.

If you use a telecommunications device for the deaf or a text telephone, call the Federal Relay Service, toll free, at 1-800-877-8339.

Accessible Format: Individuals with disabilities can obtain this document and a copy of the application package in an accessible format (e.g., braille, large print, audiotape, or compact disc) on request to the program contact person listed under For Further Information Contact.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: December 22, 2016.
Nadya Chinoy Dabby,
Assistant Deputy Secretary for Innovation and Improvement.

[FR Doc. 2016-31418 Filed 12-27-16; 8:45 am]

BILLING CODE 4000-01-P